DEPARTMENT OF COMMERCE

National Oceanic and Atmospheric Administration

[I.D. 052102D]

Marine Mammals; File No. 116-1662

AGENCY: National Marine Fisheries Service (NMFS), National Oceanic and Atmospheric Administration (NOAA), Commerce.

ACTION: Issuance of permit.

SUMMARY: Notice is hereby given that Sea World, Inc., 7007 Sea World Drive, Orlando, Florida 32821, has been issued a permit to import one beluga whale (Delphinapterus leucas) for purposes of public display.

ADDRESSES: The permit and related documents are available for review upon written request or by appointment in the following office(s):

Permits, Conservation and Education Division, Office of Protected Resources, NMFS, 1315 East-West Highway, Room 13705, Silver Spring, MD 20910 (301/713-2289); and

Regional Administrator, Southwest Region, NMFS, 501 West Ocean Boulevard, Suite 4200, Long Beach, California 90802, (562/980-4000).

FOR FURTHER INFORMATION CONTACT: Jennifer Skidmore or Amy Sloan, (301/713-2289).

SUPPLEMENTARY INFORMATION: On March 8, 2002, notice was published in the Federal Register (67 FR 10681) that a request for a public display permit to import one adult male beluga whale had been submitted by the above-named organization. The requested permit has been issued under the authority of the Marine Mammal Protection Act of 1972, as amended (16 U.S.C. 1361 et seq.), and the Regulations Governing the Taking and Importing of Marine Mammals (50 CFR part 216).

Dated: June 6, 2002.
Eugene T. Nitta,
Acting Chief, Permits, Conservation and Education Division, Office of Protected Resources, National Marine Fisheries Service.

[FR Doc. 02-14962 Filed 6-13-02; 8:45 am]

BILLING CODE 3510-22-S